Notice of February 3, 2026

Continuation of the National Emergency With Respect to the Situation in and in Relation to Burma

On February 10, 2021, by Executive Order 14014, the President declared a national emergency pursuant to the International Emergency Economic Powers Act (50 U.S.C. 1701-1706) to deal with the unusual and extraordinary threat to the national security and foreign policy of the United States constituted by the situation in and in relation to Burma.

The situation in and in relation to Burma continues to pose an unusual and extraordinary threat to the national security and foreign policy of the United States. My Administration is closely monitoring developments in and in relation to Burma and is engaging with relevant stakeholders and regional partners to encourage dialogue among conflict parties that reduces violence and increases political stability. I am prepared to calibrate pressure as necessary to protect American interests in and in relation to Burma. For this reason, the national emergency declared on February 10, 2021, must continue in effect beyond February 10, 2026. Therefore, in accordance with section 202(d) of the National Emergencies Act (50 U.S.C. 1622(d)), I am continuing for 1 year the national emergency declared in Executive Order 14014 with respect to the situation in and in relation to Burma.

This notice shall be published in the Federal Register and transmitted to the Congress.

THE WHITE HOUSE,

February 3, 2026.

[FR Doc. 2026-02497

Filed 2-5-26; 11:15 am]

Billing code 3395-F4-P